DEPARTMENT OF ENERGY

Federal Energy Regulatory Commission

Notice of Fifth Interstate Natural Gas Facility-Planning Seminar and Request for Comments

June 13, 2001.

The Office of Energy Projects will hold the fifth in a series of public meetings for the purpose of exploring and enhancing strategies for constructive public participation in the earliest stages of natural gas facility planning. This seminar will be held in Portsmouth, New Hampshire on Thursday, July 19, 2001, This seminar will be a new experience because we will present and discuss the draft Outreach Action Options for Industry, Agencies, Citizens, and FERC staff which we have developed based on the first four seminars. The draft Outreach Action Options are a compilation of the ideas, or “tools” so to speak, the FERC staff has designed to provide each stakeholder group with practical strategies for reaching consensus and developing win-win solutions.

The staff of the Commission's Office of Energy projects will give a briefing on the draft plans. Then, you will be given an opportunity to provide feedback on the plans to help ensure that they address the necessary issues. We are inviting interstate natural gas companies; Federal, state and local agencies; landowners and non-governmental organizations to join us as we continue to develop new strategies in participatory project design. Interactive breakout sessions will be held with representatives from each stakeholder group to review and comment on the draft Outreach Action Options. Then, each breakout group will have an opportunity to share its results with the overall seminar group in an interactive “brainstorming” session.

The objectives of the seminar are:

1. Present and discuss the draft Outreach Action Options;

2. Collect constructive comments and make constructive revisions to the plans;

3. Explore other ideas for improving the FERC's environmental review process.

We are continuing to work toward developing a toolbox of the best available techniques for increasing public involvement and developing solutions to issues during the pre-filing planning process. This will help to plan projects with less opposition that can achieve faster action from the Commission with less controversy and fewer conditions. These action options will be one of the aids we can provide to further that effort.

The meeting in Portsmouth, New Hampshire will be held at the Holiday Inn, 300 Woodbury Avenue, Portsmouth, New Hampshire 03801, phone number 1-603-431-8000 (website www.hiportsmouth.com). The meeting is scheduled to start at 9:00 a.m. and finish at 2:45 p.m. A preliminary agenda (attachment 1) and directions to the Holiday Inn (attachment 2) are enclosed.

If you plan to attend, please email our team at: gasoutreach@ferc.fed.us by July 6, 2001. Or, you can respond via facsimile to Pennie Lewis-Partee at 202-208-0353. Please include in the response the names, addresses, and telephone numbers of all attendees from your organization. We will send an acknowledgment of your request. Attendance is first-come, first-served. However, if it becomes necessary to limit attendance to achieve balance in stakeholder representation, we will notify you.

Prior to July 19, 2001, the draft Outreach Action Options will be posted on the FERC website (www.ferc.gov) and will be mailed to all past seminar participants and to all registrants for this seminar. Interested persons will then have an opportunity to review the draft Outreach Action Options and offer comments. Comments should be sent via e-mail to: gasoutreach-feedback@ferc.fed.us and should be sent by August 3, 2001.

If you have any questions, you may contact any of the staff listed below:

Richard Hoffmann 202/208-0066

Lauren O'Donnell 202/208-0325

Jeff Shenot 202/219-2178

Howard Wheeler 202/208-2299

J. Mark Robinson,
Director, Office of Energy Projects.

Agenda

5th Interstate Natural Gas Facility Planning Seminar, Federal Energy Regulatory Commission, Holiday Inn, Portsmouth, New Hampshire

July 19, 2001, 9:00 a.m. to 2:45 p.m.

9:00

Introductions and Welcome:

Rich Hoffmann, Division of Environmental & Engineering Review, Office of Energy Projects (OEP), FERC

Background on the Seminars & The Pipeline Planning/Approval Process

• What's the role of FERC?

• Why are we here?

Rich Hoffmann & Lauren O'Donnell, OEP

9:30

Briefing on the Contents of the Industry, Agency, Citizen, and FERC staff draft Outreach Action Options

Rich Hoffmann, Jeff Shenot, Howard Wheeler, and Lauren O'Donnell

10:30

Breakout Groups to discuss, Critique and Improve Each draft Outreach Action Option

• Discussion of factors re: announcement of the project, planning of the route, types of surveys needed; extent of disturbance, and who to tell. What are the needs of the various stakeholders? How can they best be met?

12:00

Lunch

1:00

Presentation of Breakout groups results: Each group will present its feedback to all seminar participants (15 minutes each group). This includes a discussion of other potential ways of improving the draft action options and/or the environmental review of interstate natural gas pipeline projects.

2:30

Summary of the day & next steps

[FR Doc. 01-15380 Filed 6-15-01; 8:45 am]

BILLING CODE 6717-01-M